DEPARTMENT OF ENERGY

Federal Energy Regulatory Commission

[Docket No. CP15-558-000]

PennEast Pipeline Company, LLC; Notice of Revised Schedule for Environmental Review of the PennEast Pipeline Project

This notice identifies the Federal Energy Regulatory Commission (FERC or Commission) staff's revised schedule for the completion of the environmental impact statement (EIS) for PennEast Pipeline Company, LLC's (PennEast) PennEast Pipeline Project. The first notice of schedule, issued on March 29, 2016, identified December 16, 2016 as the EIS issuance date. Based on new route modifications filed by PennEast. The Commission staff intend to issue a notice to newly affected landowners. Commission staff has therefore revised the schedule for issuance of the final EIS.

Schedule for Environmental Review

Issuance of Notice of Availability of the final EIS, February 17, 2017

90-day Federal Authorization Decision Deadline, May 18, 2017

If a schedule change becomes necessary, an additional notice will be provided so that the relevant agencies are kept informed of the project's progress.

Additional Information

In order to receive notification of the issuance of the EIS and to keep track of all formal issuances and submittals in specific dockets, the Commission offers a free service called eSubscription (https://www.ferc.gov/docs-filing/esubscription.asp).

Dated: November 8, 2016.
Kimberly D. Bose,
Secretary.

[FR Doc. 2016-27450 Filed 11-15-16; 8:45 am]

BILLING CODE 6717-01-P